DEPARTMENT OF AGRICULTURE

Agricultural Research Service

Notice of Federal Invention Available for Licensing and Intent To Grant Coexclusive Licenses

AGENCY: Agricultural Research Service, USDA.

ACTION: Notice of availability and intent.

SUMMARY: Notice is hereby given that U.S. Patent No. 6,061,875 entitled “Powered Roll Gin Stand,” issued May 16, 2000, is available for licensing and that the U.S. Department of Agriculture, Agricultural Research Service, intends to grant to J&F Saw and Gin Machinery, Inc. and to Scott Gin Machinery, Inc., both of Lubbock, Texas, coexclusive licenses to this invention.

DATES: Comments must be received on or before July 30, 2001.

ADDRESSES: Send comments to: USDA, ARS, Office of Technology Transfer, 5601 Sunnyside Avenue, Rm. 4-1158, Beltsville, Maryland 20705-5131.

FOR FURTHER INFORMATION CONTACT: June Blalock of the Office of Technology Transfer at the Beltsville address given above; telephone: 301-504-5257.

SUPPLEMENTARY INFORMATION: The Federal Government's patent rights to this invention are assigned to the United States of America, as represented by the Secretary of Agriculture. It is in the public interest to so license this invention as J&F Saw and Gin Machinery, Inc. and Scott Gin Machinery, Inc. have submitted complete and sufficient applications for a license. The prospective coexclusive licenses will be royalty-bearing and will comply with the terms and conditions of 35 U.S.C. 209 and 37 CFR 404.7. The prospective coexclusive license may be granted unless, within ninety (90) days from the date of this published Notice, the Agricultural Research Service receives written evidence and argument which establishes that the grant of the license would not be consistent with the requirements of 35 U.S.C. 209 and 37 CFR 404.7.

Michael D. Ruff,
Assistant Administrator.

[FR Doc. 01-10604 Filed 4-27-01; 8:45 am]

BILLING CODE 3410-03-P